EXPORT-IMPORT BANK OF THE UNITED STATES

Economic Impact Policy

This notice is to inform the public that the Export-Import Bank of the United States has received an application to finance the export of approximately $14 million in U.S. equipment to a polystyrene production facility in Russia. The U.S. exports will enable the facility to produce approximately 50,000 metric tons of polystyrene per year. Initial production is expected to commence in 2006. Available information indicates that this new production will be consumed in Russia, China and Eastern Europe. Interested parties may submit comments on this transaction by e-mail to economic.impact@exim.gov or by mail to 811 Vermont Avenue, NW., Room 1238, Washington, DC 20571, within 14 days of the date this notice appears in the Federal Register.

Helene S. Walsh,
Director, Policy Oversight and Review.

[FR Doc. 04-19052 Filed 8-19-04; 8:45 am]

BILLING CODE 6690-01-P